DEPARTMENT OF ENERGY

Federal Energy Regulatory Commission

Combined Notice of Filings #1

August 28, 2008.

Take notice that the Commission received the following electric rate filings:

Docket Numbers: ER96-1361-014; ER99-2781-012; ER98-4138-010; ER00-1770-020; ER02-453-011; ER98-3096-016; ER07-903-003; ER05-1054-004; ER01-202-009.

Applicants: Atlantic City Electric Company, Delmarva Power & Light Company, Potomac Electric Power Company, Conectiv Energy Supply, Inc., Conectiv Atlantic Generation, LLC, Conectiv Delmarva Generation, LLC, Conectiv Bethlehem LLC, Pepco Energy Services, Bethlehem Renewable Energy, LLC, Eastern Landfill Gas, LLC, Potomac Power Resources, LLC.

Description: PHI Entities submits a revised updated market power study to reflect the impact of the simultaneous transmission import limitation studies submitted by PJM.

Filed Date: 08/22/2008.

Accession Number: 20080827-0201.

Comment Date: 5 p.m. Eastern Time on Friday, September 12, 2008.

Docket Numbers: ER99-845-013.

Applicants: Puget Energy, Inc.

Description: Puget Sound Energy, Inc. submits a notice of non-material change in status in compliance with reporting requirements set forth in section 35.42 of the regulation of the FERC and the requirements of Order 652.

Filed Date: 08/25/2008.

Accession Number: 20080827-0203.

Comment Date: 5 p.m. Eastern Time on Monday, September 15, 2008.

Docket Numbers: ER00-2129-002; ER04-994-005; ER03-382-006; ER06-1272-005; ER99-1801-010; ER02-1762-007; ER07-1300-002.

Applicants: Orion Power Midwest, L.P., Reliant Energy Wholesale Generation, LLC, Reliant Energy Electric Solutions, LLC, Reliant Energy Power Supply, LLC, Reliant Energy Services, Inc., Reliant Energy Solutions East, LLC, Reliant Energy Solutions Northeast, LLC.

Description: Reliant MBR Entities submits revisions to their market-based rate tariff to incorporate the FERC approved tariff provisions governing sales of ancillary services in the market to be administered by Midwest ISO.

Filed Date: 08/27/2008.

Accession Number: 20080827-0202.

Comment Date: 5 p.m. Eastern Time on Wednesday, September 17, 2008.

Docket Numbers: ER00-3614-008.

Applicants: BP Energy Company.

Description: BP Energy Company submits a revised page of its market-based rate wholesale power sales tariff to identify BPEC as a Category 2 seller.

Filed Date: 08/22/2008.

Accession Number: 20080825-0247.

Comment Date: 5 p.m. Eastern Time on Friday, September 12, 2008.

Docket Numbers: ER01-205-000.

Applicants: Xcel Energy Services Inc.

Description: Xcel Energy Services Inc. submits errata to its August 20, 2008 Change in Status Report Compliance Filing.

Filed Date: 08/27/2008.

Accession Number: 20080827-5075.

Comment Date: 5 p.m. Eastern Time on Wednesday, September 17, 2008.

Docket Numbers: ER01-3103-016.

Applicants: Astoria Energy, LLC.

Description: Astoria Energy, LLC submits notice of a change in status resulting from the consummation of the transaction authorized by FERC.

Filed Date: 08/22/2008.

Accession Number: 20080826-0242.

Comment Date: 5 p.m. Eastern Time on Friday, September 12, 2008.

Docket Numbers: ER04-839-003.

Applicants: MAG Energy Solutions, Inc.

Description: MAG Energy Solutions, Inc. submits its Order 697 Compliance Filing and Application for Category 1 status.

Filed Date: 08/22/2008.

Accession Number: 20080826-0253.

Comment Date: 5 p.m. Eastern Time on Friday, September 12, 2008.

Docket Numbers: ER07-1372-012.

Applicants: Midwest Independent Transmission System Operator.

Description: Midwest Independent Transmission System Operator, Inc. submits amendments to its Balancing Authority Agreement to comply with directives set forth in FERC's 7/21/08 Order.

Filed Date: 08/19/2008.

Accession Number: 20080821-0113.

Comment Date: 5 p.m. Eastern Time on Tuesday, September 09, 2008.

Docket Numbers: ER08-1175-002.

Applicants: Niagara Mohawk Power Corporation.

Description: Niagara Mohawk and Carthage Energy LLC submits information re the derivation of the annual charge of $6,136 that Carthage pays to Niagara pursuant to the Revised Service Agreement etc.

Filed Date: 08/25/2008.

Accession Number: 20080826-0252.

Comment Date: 5 p.m. Eastern Time on Monday, September 15, 2008.

Docket Numbers: ER08-1212-001.

Applicants: Southwest Power Pool, Inc.

Description: Southwest Power Pool, Inc. submits an amendatory filing clean and redlined versions of the relevant tariff sheet that have been modified to account for the repayment of the Base Plan Funded Credits to Redbud.

Filed Date: 08/22/2008.

Accession Number: 20080826-0243.

Comment Date: 5 p.m. Eastern Time on Friday, September 12, 2008.

Docket Numbers: ER08-1220-001.

Applicants: PJM Interconnection, LLC.

Description: PJM Interconnection LLC submits the Network Integration Transmission Service Agreement with Illinois Municipal Electric Agency for Network Integration Service.

Filed Date: 08/25/2008.

Accession Number: 20080826-0248.

Comment Date: 5 p.m. Eastern Time on Monday, September 15, 2008.

Docket Numbers: ER08-1264-001.

Applicants: Arizona Public Service Company.

Description: Arizona Public Service Authority files an amendment to its proposed revisions to section 29.2.8 and 30.2 of its Open Access Transmission Tariff.

Filed Date: 08/26/2008.

Accession Number: 20080827-0293.

Comment Date: 5 p.m. Eastern Time on Tuesday, September 16, 2008.

Docket Numbers: ER08-1249-001.

Applicants: El Paso Electric Company.

Description: El Paso Electric Company submits a clean version of the agreement with the designation of Rate Schedule FERC 105 to replace the designation of Service Agreement 215 shown in the original filing.

Filed Date: 08/26/2008.

Accession Number: 20080827-0294.

Comment Date: 5 p.m. Eastern Time on Tuesday, September 16, 2008.

Docket Numbers: ER08-1371-001.

Applicants: Southwest Power Pool, Inc.

Description: Southwest Power Pool, Inc., submits an amendatory filing to the August 7 filing which has been modified to account for the repayment of the Based Plan Funded Credits to Redbud Plan.

Filed Date: 08/22/2008.

Accession Number: 20080826-0244.

Comment Date: 5 p.m. Eastern Time on Friday, September 12, 2008.

Docket Numbers: ER08-1435-001.

Applicants: Midwest Independent Transmission System Operator.

Description: Midwest Independent Transmission System Operator, Inc ., re-submits the complete set of redlined and clean tariff sheets with the relevant page duly correct for the revision of the 8/21/08 filing.

Filed Date: 08/25/2008.

Accession Number: 20080826-0247.

Comment Date: 5 p.m. Eastern Time on Monday, September 15, 2008.

Docket Numbers: ER08-1437-000.

Applicants: Polytop Corporation.

Description: Polytop Corporation seeks to cancel their FERC Electric Tariff, Original Volume 1 and requests that the cancellation be effective 8/20/08.

Filed Date: 08/22/2008.

Accession Number: 20080826-0245.

Comment Date: 5 p.m. Eastern Time on Friday, September 12, 2008.

Docket Numbers: ER08-1439-000.

Applicants: New Brunswick Power Generation Corporation.

Description: New Brunswick Power Generation Corp. submits a Market-Based Rate Tariff for the sale of electric energy and capacity.

Filed Date: 08/22/2008.

Accession Number: 20080826-0255.

Comment Date: 5 p.m. Eastern Time on Friday, September 12, 2008.

Docket Numbers: ER08-1440-000.

Applicants: Midwest Independent Transmission System Operator.

Description: Midwest Independent Transmission System Operator, Inc., submits a Transmission Interconnection Agreement among MidAmerican Energy Company et al.

Filed Date: 08/25/2008.

Accession Number: 20080826-0251.

Comment Date: 5 p.m. Eastern Time on Monday, September 15, 2008.

Docket Numbers: ER08-1441-000.

Applicants: Southern California Edison Company.

Description: Southern California Edison Company submits a Small Generator Interconnection Agreement and a Service Agreement for Wholesale Distribution Service, etc.

Filed Date: 08/25/2008.

Accession Number: 20080826-0250.

Comment Date: 5 p.m. Eastern Time on Monday, September 15, 2008.

Docket Numbers: ER08-1442-000.

Applicants: Flat Ridge Wind Energy, LLC.

Description: Application for Flat Ridge Wind Energy, LLC for order accepting initial market-based rate tariff, waiving regulations, and granting blanket approvals.

Filed Date: 08/25/2008.

Accession Number: 20080827-0204.

Comment Date: 5 p.m. Eastern Time on Monday, September 15, 2008.

Docket Numbers: ER08-1443-000; ER08-1443-001.

Applicants: Noble Great Plains Windpark, LLC.

Description: Noble Great Plains Windpark, LLC submits application for order accepting initial tariff, waiving regulations, including the sixty day prior notice request, etc. On 8/27/08 an amendment was submitted to the application.

Filed Date: 08/22/2008.

Accession Number: 20080826-0249.

Comment Date: 5 p.m. Eastern Time on Friday, September 12, 2008.

Docket Numbers: ER08-1444-000.

Applicants: Ameren Services Company.

Description: Ameren Service Company submits Notices of Cancellation for 147 transmission service agreements entered into under the joint open Access Transmission tariff of the Ameren Operating Companies under ER08-1444.

Filed Date: 08/25/2008.

Accession Number: 20080827-0099.

Comment Date: 5 p.m. Eastern Time on Monday, September 15, 2008.

Take notice that the Commission received the following open access transmission tariff filings:

Docket Numbers: OA08-126-000.

Applicants: Mid-Continent Area Power Pool.

Description: Order No. 890 One-Time Distribution Methodology Compliance Filing under OA08-126.

Filed Date: 08/27/2008.

Accession Number: 20080827-5068.

Comment Date: 5 p.m. Eastern Time on Wednesday, September 17, 2008.

Take notice that the Commission received the following electric reliability filings:

Docket Numbers: RR08-6-000.

Applicants: North American Electric Reliability Corp.

Description: Request of the North American Electric Reliability Corporation for Acceptance of its 2009 Business Plan and Budget, 2009 Business Plans and Budgets of Regional Entities and for Approval of Proposed Assessments To Fund Budgets.

Filed Date: 08/22/2008.

Accession Number: 20080822-5143.

Comment Date: 5 p.m. Eastern Time on Monday, September 11, 2008.

Docket Numbers: RR08-7-000.

Applicants: North American Electric Reliability Corp.

Description: Petition for Approval of Proposed Revisions to the Bylaws of ReliabilityFirst Corporation under RP08-7.

Filed Date: 08/28/2008.

Accession Number: 20080828-5059.

Comment Date: 5 p.m. Eastern Time on Monday, September 17, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Kimberly D. Bose,
Secretary.

[FR Doc. E8-20531 Filed 9-4-08; 8:45 am]

BILLING CODE 6717-01-P